DEPARTMENT OF THE TREASURY

Fiscal Service

Fee Schedule for the Transfer of U.S. Treasury Book-Entry Securities Held on the National Book-Entry System

AGENCY: Bureau of the Public Debt, Fiscal Service, Department of the Treasury.

ACTION: Notice.

SUMMARY: The Department of the Treasury is announcing a new fee schedule for the transfer of book-entry securities maintained on the National Book-Entry System (NBES). This fee schedule will take effect on January 2, 2004. The basic fee for the transfer of a Treasury book-entry security will be $.21, unchanged from fees in effect since July 1, 2003. The Federal Reserve funds movement fee will be decreasing from $.05 to $.04, resulting in a combined fee of $.25 for each Treasury securities transfer.

In addition to the basic fee, off-line transfers have a surcharge. The surcharge for an off-line Treasury book-entry transfer in CY 2004 will be increasing from $25.00 to $28.00.

EFFECTIVE DATE: January 2, 2004.

FOR FURTHER INFORMATION CONTACT: Edward C. Leithead, Director, Primary & Secondary Market Fixed Income Securities (Financing), Bureau of the Public Debt, c/o Federal Reserve Bank of New York, 33 Liberty Street, New York, NY 10045-0001, telephone (212) 720-2883.

John M. Lilly, Financial Systems Analyst, Bureau of the Public Debt, Room 510, 999 E Street, NW., Washington, DC 20239-0001, telephone (202) 691-3550.

SUPPLEMENTARY INFORMATION: On October 1, 1985, the Department of the Treasury established a fee structure for the transfer of Treasury book-entry securities maintained on NBES.

Effective January 2, 2004, the basic fee will be $.21 for each Treasury securities transfer and reversal sent and received, unchanged from fees in effect since July 1, 2003. The surcharge for an off-line Treasury book-entry transfer will increase from $25.00 to $28.00.

The basic transfer fee assessed to both sends and receives is reflective of costs associated with the processing of a security transfer. The off-line surcharge reflects the additional processing costs associated with the manual processing of off-line securities transfers.

The Treasury does not charge a fee for account maintenance, the stripping or reconstitution of Treasury securities, wires associated with original issues, or interest and redemption payments. The Treasury currently absorbs these costs and will continue to do so.

The fees described in this notice apply only to the transfer of Treasury book-entry securities held on NBES. Information concerning book-entry transfers of government agency securities, which are priced by the Federal Reserve System, is set out in a separate Federal Register notice published elsewhere in this issue by the Board of Governors of the Federal Reserve System [Docket OP-1165].

The following is the Treasury fee schedule that will take effect on January 2, 2004, for the book-entry transfers on NBES:

TREASURY—NBES FEE SCHEDULE ¹
[Effective January 2, 2004, (in dollars)]
Transfer type | Basic fee | Off-line surcharge | Funds ² movement fee | Total fee
On-line transfer originated | .21 | .00 | .04 | .25
On-line transfer received | .21 | .00 | .04 | .25
On-line reversal transfer originated | .21 | .00 | .04 | .25
On-line reversal transfer received | .21 | .00 | .04 | .25
Off-line transfer originated | .21 | 28.00 | .04 | 28.25
Off-line transfer received | .21 | 28.00 | .04 | 28.25
Off-line account switch received | .21 | .00 | .04 | .25
Off-line reversal transfer originated | .21 | 28.00 | .04 | 28.25
Off-line reversal transfer received | .21 | 28.00 | .04 | 28.25
¹ The Treasury does not charge a fee for account maintenance, the stripping and reconstituting of Treasury securities, or the wires associated with original issues, or interest and redemption payments. The Treasury currently absorbs these costs and will continue to do so.
² The funds movement fee is not a Treasury fee, but is charged by the Federal Reserve for the cost of moving funds associated with the transfer of a Treasury book-entry security.

Authority: 31 CFR 357.45.

Dated: October 17, 2003.
Donald V. Hammond,
Fiscal Assistant Secretary.

[FR Doc. 03-27125 Filed 10-27-03; 8:45 am]

BILLING CODE 4810-39-P